NATIONAL COUNCIL ON DISABILITY

Sunshine Act Meetings; Correction

SUMMARY: The National Council on Disability published a notice in the Federal Register of February 8, 2018, concerning a meeting of the Council. This document contains a correction to the agenda timing and content of the meeting.

CONTACT PERSON FOR MORE INFORMATION: Anne Sommers, NCD, 1331 F Street NW, Suite 850, Washington, DC 20004; 202-272-2004 (V), 202-272-2074 (TTY).

In the Federal Register of February 8, 2018, in FR Doc. 18-02597, on page 5647, in the second column, correct the “Matters to be Considered” caption to read:

MATTERS TO BE CONSIDERED: The Council will receive agency updates on policy projects, finance, governance, and other business. The Council will receive an update on the work done to date for its 2018 Progress Report to Congress and the President, which this year will focus on monitoring and enforcement efforts at the Equal Employment Opportunity Commission, the U.S. Access Board, and the U.S. Department of Labor. The Council will next release its latest report titled, “U.S. Foreign Policy and Disability 2017: Progress and Promise” with a summary of the report followed by a respondent panel. The Council will then revisit its policy project proposals from October 2017 in summaries of each proposal. Following this recap, the Council will hear from representatives from the U.S. Department of Justice Disability Rights Division, who have been asked to speak about recent ADA regulation rescissions as well as their work in the area of service animals. Following that presentation, the Council will receive public comments on which of the Council's proposed policy projects are of greatest priority to the disability community (including immigration; institutionalization following natural disasters; organ donation policies; a technology bill of rights; autonomous vehicle technology; guardianship due process concerns; and any others that may be raised during the course of the earlier summary of proposals).

Following the public comment, the Council will discuss and vote on the slate of projects it will move forward for external funding opportunities and internal work of staff.

In the Federal Register of February 8, 2018, in FR Doc. 18-02597, on page 5647, in the second and third columns, correct the “Agenda” caption to read:

AGENDA: The times provided below are approximations for when each agenda item is anticipated to be discussed (all times Eastern):

Thursday, March 8

9:00—9:30 a.m.—Welcome and introductions

9:30—10:15 a.m.—2018 Progress Report update and discussion

10:15—10:30 a.m.—Break

10:30—11:30 a.m.—Foreign policy report release and respondent panel

11:30 a.m.—12:00 p.m.—NCD business meeting

12:00—12:15 p.m.—Training on Council Member time reports

12:15—1:30 p.m.—LUNCH BREAK

1:30—2:00 p.m.—Recap of new policy project proposals from October 2017 board meeting

2:00—3:00 p.m.—Panel of Department of Justice Disability Rights Division representatives regarding rescinded ADA regulations and agency activities regarding service animals

3:00—3:15 p.m.—BREAK

3:15—3:45 p.m.—Public comments (focused on recommendations for Council priorities based on the summary of policy projects earlier summarized)

3:45—5:00 p.m.—Council discussion of the slate of projects it will move forward for funding opportunities and the internal work of staff, to begin in the remainder of FY18.

5:00 p.m.—Adjourn

In the Federal Register of February 8, 2018, in FR Doc. 18-02597, on page 5647, in the third column, correct the “Public Comment” caption to read:

PUBLIC COMMENT: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Wednesday, March 7, 2018. Priority will be given to those individuals who are in-person to provide their comments during the public comment period. Those commenters on the phone will be called on per the list of those registered via email. Due to time constraints, NCD asks all commenters to limit their comments to three minutes. Comments received at the March quarterly meeting will be limited to those regarding the public's input on which of the Council's proposed policy projects are of greatest priority to the disability community (including immigration; institutionalization following natural disasters; organ donation policies; a technology bill of rights; autonomous vehicle technology; guardianship due process concerns; and any others that may be raised during the course of the earlier summary of proposals).

Dated: February 12, 2018.
Deb Cotter,
Executive Director.

[FR Doc. 2018-03196 Filed 2-12-18; 4:15 pm]

BILLING CODE 8421-03-P